DEPARTMENT OF TRANSPORTATION

Federal Aviation Administration

14 CFR Part 71

[Docket No. FAA-2020-0654; Airspace Docket No. 20-ASO-17]

RIN 2120-AA66

Amendment of V-53, V-115, V-140, T-215, and T-323, and Revocation of V-339 in the Vicinity of Hazard, KY

AGENCY: Federal Aviation Administration (FAA), DOT.

ACTION: Final rule.

SUMMARY: This action amends VHF Omnidirectional Range (VOR) Federal airways V-53, V-115, and V-140, and Area Navigation (RNAV) T-routes T-215 and T-323; and removes VOR Federal airway V-339 in the vicinity of Hazard, KY. The Air Traffic Service (ATS) route modifications are necessary due to the planned decommissioning of the VOR portion of the Hazard, KY, VOR/Distance Measuring Equipment (VOR/DME) navigation aid (NAVAID) which provides navigation guidance for portions of the affected ATS routes. The Hazard VOR is being decommissioned as part of the FAA's VOR Minimum Operational Network (MON) program.

DATES: Effective date 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2020-0654 in the Federal Register (85 FR 44801; July 24, 2020), amending VOR Federal airways V-53, V-115, and V-140, and RNAV T-routes T-215 and T-323; and removing VOR Federal airway V-339 in the vicinity of Hazard, KY. The proposed amendment and revocation actions were due to the planned decommissioning of the VOR portion of the Hazard, KY, VOR/DME. Interested parties were invited to participate in this rulemaking effort by submitting written comments on the proposal. No comments were received.

VOR Federal airways are published in paragraph 6010(a) and RNAV T-routes are published in paragraph 6011 of FAA Order 7400.11E dated July 21, 2020, and effective September 15, 2020, which is incorporated by reference in 14 CFR 71.1. The VOR Federal airways listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending Title 14 Code of Federal Regulations (14 CFR) part 71 by modifying VOR Federal airways V-53, V-115, and V-140, and RNAV routes T-215 and T-323; and removing VOR Federal airway V-339. The planned decommissioning of the VOR portion of the Hazard, KY, VOR/DME NAVAID has made this action necessary. The VOR Federal airway changes are outlined below.

V-53: V-53 extends between the Charleston, SC, VOR/Tactical Air Navigation (VORTAC) and the Brickyard, IN, VOR/DME. The airspace within R-3401B is excluded. The airway segment overlying the Hazard, KY, VOR/DME between the Holston Mountain, TN, VORTAC and the Lexington, KY, VOR/DME is removed. The unaffected portions of the existing airway remain as charted.

V-115: V-115 extends between the Crestview, FL, VORTAC and the Parkersburg, WV, VORTAC. The airway segment overlying the Hazard, KY, VOR/DME between the Volunteer, TN, VORTAC and the Charleston, WV, VORTAC is removed. The unaffected portions of the existing airway remain as charted.

V-140: V-140 extends between the Panhandle, TX, VORTAC and the Casanova, VA, VORTAC. The airway segment overlying the Hazard, KY, VOR/DME between the London, KY, VOR/DME and the Bluefield, WV, VOR/DME is removed. The unaffected portions of the existing airway remain as charted.

V-339: V-339 extends between the Hazard, KY, VOR/DME and the Falmouth, KY, VOR/DME. The airway is removed in its entirety.

The RNAV T-route changes are outlined below.

T-215: T-215 extends between the Lexington, KY, VOR/DME and the GAMKE, IN, waypoint (WP). The route is extended southeastward from the Lexington, KY, VOR/DME to the Holston Mountain, TN, VORTAC. Additionally, the type of facility for Lexington, KY, is corrected from “VORTAC” to “VOR/DME” and the geographic coordinates of each route point are updated to be expressed in degrees, minutes, seconds, and hundredths of a second.

T-323: T-323 extends between the CROCS, GA, WP and the HIGGI, NC, WP. The route is extended northward from the HIGGI, NC, WP to the Hazard, KY, DME. Additionally, the geographic coordinates of each route point are updated to be expressed in degrees, minutes, seconds, and hundredths of a second.

All NAVAID radials in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-53, V-115, and V-140, and RNAV routes T-215 and T-323; and removing VOR Federal airway V-339, due to the planned decommissioning of the VOR portion of the Hazard, KY, VOR/DME NAVAID, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-53 [Amended]

From Charleston, SC; Columbia, SC; Spartanburg, SC; Sugarloaf Mountain, NC; to Holston Mountain, TN. From Lexington, KY; Louisville, KY; INT Louisville 333° and Brickyard, IN, 170° radials; to Brickyard. The airspace within R-3401B is excluded.

* * * * *

V-115 [Amended]

From Crestview, FL; INT Crestview 001° and Montgomery, AL, 204° radials; Montgomery; INT Montgomery 323° and Vulcan, AL, 177° radials; Vulcan; Choo Choo, TN; to Volunteer, TN. From Charleston, WV; to Parkersburg, WV.

* * * * *

V-140 [Amended]

From Panhandle, TX; Burns Flat, OK; Kingfisher, OK; INT Kingfisher 072° and Tulsa, OK, 261° radials; Tulsa; Razorback, AR; Harrison, AR; Walnut Ridge, AR; Dyersburg, TN; Nashville, TN; Livingston, TN; to London, KY. From Bluefield, WV; INT Bluefield 071° and Montebello, VA, 250° radials; Montebello; to Casanova, VA.

* * * * *

V-339 [Removed]

* * * * *

6011. United States Area Navigation Routes.

* * * * *

T-215 Holston Mountain, TN (HMV) to GAMKE, IN [Amended]
Holston Mountain, TN (HMV) | VORTAC | (Lat. 36°26′13.40″ N, long. 082°07′46.56″ W)
HILTO, VA | WP | (Lat. 36°41′48.46″ N, long. 082°26′07.44″ W)
FLENR, VA | WP | (Lat. 36°56′44.27″ N, long. 082°43′42.75″ W)
RISTE, KY | WP | (Lat. 37°09′02.92″ N, long. 082°58′24.38″ W)
Hazard, KY (AZQ) | DME | (Lat. 37°23′28.52″ N, long. 083°15′46.83″ W)
HUGEN, KY | FIX | (Lat. 37°31′46.14″ N, long. 083°32′58.54″ W)
Lexington, KY (HYK) | VOR/DME | (Lat. 37°57′58.86″ N, long. 084°28′21.06″ W)
GAMKE, IN | WP | (Lat. 38°46′12.99″ N, long. 085°14′35.37″ W)
* * * * * * *
T-323 CROCS, GA to Hazard, KY (AZQ) [Amended]
CROCS, GA | WP | (Lat. 32°27′17.69″ N, long. 082°46′29.06″ W)
BOBBR, GA | WP | (Lat. 33°19′57.07″ N, long. 083°08′19.47″ W)
BIGNN, GA | WP | (Lat. 34°20′34.38″ N, long. 083°33′06.80″ W)
ZPPLN, NC | WP | (Lat. 34°59′47.42″ N, long. 083°49′37.73″ W)
HIGGI, NC | WP | (Lat. 35°26′46.57″ N, long. 083°46′41.05″ W)
KIDBE, TN | WP | (Lat. 35°51′16.23″ N, long. 083°40′19.66″ W)
ZADOT, TN | WP | (Lat. 36°35′32.17″ N, long. 083°28′40.09″ W)
WELLA, KY | WP | (Lat. 37°02′15.68″ N, long. 083°21′31.07″ W)
Hazard, KY (AZQ) | DME | (Lat. 37°23′28.52″ N, long. 083°15′46.83″ W)

* * * * *

Issued in Washington, DC, on December 3, 2020.
George Gonzalez,
Acting Manager, Rules and Regulations Group.

[FR Doc. 2020-26920 Filed 12-9-20; 8:45 am]

BILLING CODE 4910-13-P